ADVISORY COUNCIL ON HISTORIC PRESERVATION

Notice of Meeting; Advisory Council on Historic Preservation

AGENCY: Advisory Council on Historic Preservation.

ACTION: Notice of Meeting.

Summary: Notice is hereby given that the Advisory Council on Historic Preservation (ACHP) will meet Thursday, February 17, 2011. The meeting will be held in the Caucus Room of the Russell Senate Office Building at Constitution and Delaware Avenues, NE., Washington, DC at 9 a.m. The ACHP was established by the National Historic Preservation Act of 1966 (16 U.S.C. 470 et seq.) to advise the President and Congress on national historic preservation policy and to comment upon Federal, Federally assisted, and Federally licensed undertakings having an effect upon properties listed in or eligible for inclusion in the National Register of Historic Places. The ACHP's members are the Architect of the Capitol; the Secretaries of the Interior, Agriculture, Defense, Housing and Urban Development, Commerce, Education, Veterans Affairs, and Transportation; the Administrator of the General Services Administration; the Chairman of the National Trust for Historic Preservation; the President of the National Conference of State Historic Preservation Officers; a Governor; a Mayor; a Native American; and eight non-Federal members appointed by the President.

Call to Order—9 a.m.

I. Chairman's Welcome

II. Swearing-in of New Members III. Chairman's Award

IV. Chairman's Report

V. Executive Director's Report

VI. Native American Activities

A. HUD Delegation of Tribal Consultation Responsibilities

B. Native American Advisory Group

C. Voting Membership on the ACHP for NATHPO D. Tribal Leaders meeting

VII. Panel on Renewable Energy and Historic Preservation

VIII. Sustainability and Historic Preservation Task Force

IX. Preservation Initiatives Committee

A. America's Great Outdoors Initiative and Historic Preservation

B. Economic Benefits Study

C. Legislation

X. Federal Agency Programs Committee

A. Distance Learning Update

B. FEMA Gulf Coast Hazard Mitigation Grant Program Work Group Update

C. Section 106 Update

XI. Communications, Education, and Outreach Committee

A. Engaging Youth in Historic Preservation

B. New Directions for ACHP Awards Programs

XII. New Business

XIII. Adjourn

Note: The meetings of the ACHP are open to the public.

If you need special accommodations due to a disability, please contact the Advisory Council on Historic Preservation, 1100 Pennsylvania Avenue, NW., Room 803, Washington, DC 202606-8503, at least seven (7) days prior to the meeting. For further information: Additional information concerning the meeting is available from the Executive Director, Advisory Council on Historic Preservation, 1100 Pennsylvania Avenue, NW., #803, Washington, DC 20004.

Dated: February 3, 2011.
John M. Fowler,
Executive Director.

[FR Doc. 2011-2928 Filed 2-10-11; 8:45 am]

BILLING CODE 4310-K6-M